DEPARTMENT OF TRANSPORTATION

Federal Motor Carrier Safety Administration

[Docket No. FMCSA-2017-0190]

Hours of Service (HOS) of Drivers; Application for Exemption; Rail Delivery Services (RDS); Correction

AGENCY: Federal Motor Carrier Safety Administration (FMCSA), DOT.

ACTION: Notice of application for exemption; request for comments; correction.

SUMMARY: FMCSA published a notice in the Federal Register of July 7, 2017, concerning a request for comments on an Rail Delivery Services (RDS) application for exemption. The notice included the incorrect docket number FMCSA-2017-0175. The correct docket number is FMCSA-2017-0190. The Agency will monitor both dockets and ensure that comments submitted are posted in the correct docket.

DATES: Comments must be received on or before August 7, 2017.

FOR FURTHER INFORMATION CONTACT: For information concerning this notice, contact Mr. Thomas Yager, Chief, FMCSA Driver and Carrier Operations Division; Office of Carrier, Driver and Vehicle Safety Standards; Telephone: (614) 942-6477. Email: MCPSD@dot.gov. If you have questions on viewing or submitting material to the docket, contact Docket Services, telephone (202) 366-9826.

SUPPLEMENTARY INFORMATION:

Corrections

1. In the Federal Register of July 7, 2017, in FR Doc. 2017-0175, on page 31680, in the first column, correct the “Docket No.” to read: “FMCSA-2017-0190”.

2. In the Federal Register of July 7, 2017, in FR Doc. 2017-0175, on page 31681, in the ADDRESSES header, correct the “Federal Docket Management System (FDMS) Number” to read: “FMCSA-2017-0190”.

3. In the Federal Register of July 7, 2017, in FR Doc. 2017-0175, on page 31681, in the SUPPLEMENTARY INFORMATION header under the first paragraph of Submitting Comments, correct the “docket number for this notice” to read: “FMCSA-2017-0190”.

4. In the Federal Register of July 7, 2017, in FR Doc. 2017-0175, on page 31681, in the SUPPLEMENTARY INFORMATION header under the second paragraph of Submitting Comments, correct the “docket number” to read: “FMCSA-2017-0190”.

Issued on: July 7, 2017.
Larry W. Minor,
Associate Administrator for Policy.

[FR Doc. 2017-14689 Filed 7-12-17; 8:45 am]

BILLING CODE 4910-EX-P